DEPARTMENT OF ENERGY

Federal Energy Regulatory Commission

[Docket Nos. ER03-563-010, et al.]

Electric Rate and Corporate Regulation Filings

June 12, 2003.

The following filings have been made with the Commission. The filings are listed in ascending order within each docket classification.

1. ISO New England Inc.

[Docket No. ER03-563-010]

Take notice that on June 10, 2003, ISO New England Inc. (the ISO) tendered a filing to correct tariff sheets contained in the May 30, 2003, filing made in Docket No. ER03-563-007. The ISO states that copies of this filing have been served upon all parties to this proceeding, to the NEPOOL Participants (electronically), as well as upon the utility regulatory agencies of the six New England States. Notice of the May 30 filing was issued by the Commission on June 4, 2003, seeking comments by June 20, 2003.

Comment Date: June 20, 2003.

2. Xcel Energy Services, Inc.

[Docket No. ER03-905-001]

Take notice that on June 10, 2003, Xcel Energy Services, Inc. (XES), on behalf of Southwestern Public Service Company (SPS), submitted a filing for to correct in Exhibit A to the Wholesale Full Requirements Electric Power Service Agreement between SPS and Farmers' Electric Cooperative, Inc. of New Mexico filed on May 29, 2003 in Docket No. ER03-905-000. Xcel states that the correction is being filed due to incorrect formatting of the Exhibit A per Commission Order No. 614.

Comment Date: July 1, 2003.

3. Cleco Power LLC

[Docket No. ER03-940-000]

Take notice that on June 10, 2003, Cleco Power LLC (Cleco) filed changes to section 30.2 of its Open Access Transmission Tariff, FERC Electric Tariff, Original Volume No. 1, Original Sheet No. 42 to implement a new procedure for designating Replacement Network Resources on a firm basis for periods shorter than one-year. Cleco submits Original Sheet No. 41A and First Revised Sheets No. 42 to its FERC Electric Tariff, Original Volume No. 1 and proposes that they be made effective June 11, 2003.

Comment Date: July 1, 2003.

4. Granger Energy, LLC

[Docket No. ER03-941-000]

Take notice that on June 9, 2003, Granger Energy, LLC (Granger) tendered for filing a Notice of Cancellation pursuant to 18 CFR 35.15 and 131.53, terminating its market-based rate making authorities and it's Rate Schedule FERC Tariff No. 1.

Comment Date: June 30, 2003.

5. California Independent System Operator Corporation

[Docket No. ER03-942-000]

Take notice that on June 10, 2003, the California Independent System Operator Corporation (ISO) submitted an amendment (Amendment No. 53) to the ISO Tariff. The ISO states that Amendment No. 53 would modify the Tariff in several respects relating to ISO Market payments. The ISO has also served copies of this filing upon all entities that are on the official service list for the docket.

Comment Date: July 1, 2003.

6. Mirant Delta, LLC

[Docket No. ER03-943-000]

Take notice that on June 10, 2003, Mirant Delta, LLC (Mirant Delta) tendered for filing revised tariff sheets to modify Schedule M of Mirant Delta's Must-Run Service Agreements , Rate Schedule FERC Nos. 4 and 5, between Mirant Delta and the California Independent System Operator Corporation (CAISO). Mirant Delta states that the revisions will allow the CAISO to dispatch Pittsburg Unit 7 and the remaining Pittsburg and Contra Costa units consistent with the Delta Dispatch Procedures. Mirant Delta requests an effective date of the tariff changes of June 11, 2003.

Comment Date: July 1, 2003.

7. Wisconsin Public Service Corporation

[Docket No. ER03-944-000]

Take notice that on June 10, 2003, Wisconsin Public Service Corporation (WPSC) tendered for filing an unexecuted Revised Service Agreement between WPSC and Village of Stratford Water and Electric Utility (Stratford) under WPSC's FERC Electric Tariff, Second Revised Volume No. 2.

WPSC requests that the Commission allow the Revised Service Agreement to become effective as of May 11, 2003, the date service commenced under the Revised Service Agreement.

WPSC states that a copy of the filing was served upon Stratford, the Public Service Commission of Wisconsin and the Michigan Public Service Commission.

Comment Date: July 1, 2003.

8. Wisconsin Public Service Corporation

[Docket No. ER03-945-000]

Take notice that, on June 10, 2003, Wisconsin Public Service Corporation (WPSC) tendered for filing three unexecuted revised service agreements with Washington Island Electric Cooperative (Washington Island), Manitowoc Public Utilities (Manitowoc) and Upper Peninsula Power Company (UPPCo) (collectively, Revised Service Agreements) under WPSC's FERC Electric Tariff, Fourth Revised Volume No. 1.

WPSC respectfully requests that the Commission allow the Revised Service Agreements to become effective as of May 11, 2003, the date service commenced under the Revised Service Agreements.

WPSC states that a copy of the filing was served upon Washington Island, Manitowoc, UPPCo, the Public Service Commission of Wisconsin, and the Michigan Public Service Commission.

Comment Date: July 1, 2003.

9. WPS Resources Operating Companies

[Docket No. ER03-946-000]

Take notice that on June 10, 2003, WPS Resources Operating Companies, on behalf of Wisconsin Public Service Corporation (WPSC) and Upper Peninsula Power Company (UPPCo) (collectively, WPS Resources), tendered for filing seven unexecuted service agreements under WPS Resources' Joint Tariff for Sales of Ancillary Services and Wholesale Distribution Service, FERC Electric Tariff, Original Volume No. 2 (JAST) and a notice of cancellation and revised service agreement cover sheets (Cancellation Documents) to terminate three service agreements under WPS Resources' open access transmission tariff, FERC Electric Tariff, First Revised Volume No. 1.

WPS Resources respectfully requests that the Commission allow the JAST service agreements and the Cancellation Documents to become effective on May 11, 2003, the day service commenced under the JAST Service Agreements.

WPSC states that copies of the filing were served upon all affected customers, the Public Service Commission of Wisconsin and the Michigan Public Service Commission.

Comment Date: July 1, 2003.

10. Pacific Gas and Electric Company

[Docket No. ER03-947-000]

Take notice that on June 10, 2003, Pacific Gas and Electric Company (PG&E) tendered for filing a Wholesale Distribution Tariff (WDT) Service Agreement (Service Agreement), an Interconnection Agreement (IA) and an Addendum to the IA between PG&E and Port of Stockton.

PG&E has requested certain waivers for a proposed effective date of May 15, 2003. PG&E state that copies of this filing have been served upon Port of Stockton, the California Independent System Operator Corporation and the California Public Utilities Commission.

Comment Date: July 1, 2003.

11. Southern California Edison Company

[Docket No. ER03-948-000]

Take notice that on June 10, 2003, Southern California Edison Company (SCE) tendered for filing revised tariff sheets (Revised Sheets) to the Service Agreement for Wholesale Distribution Service and the Interconnection Facilities Agreement between SCE and Berry Petroleum Company (BPC).

SCE states that the Revised Sheets increase the amount of wholesale Distribution Service from 19.8 MW to 21.0 MW. SCE states that copies of this filing were served upon the Public Utilities Commission of the State of California and BPC.

Comment Date: July 1, 2003.

Standard Paragraph

Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 03-16527 Filed 6-27-03; 8:45 am]

BILLING CODE 6717-01-P